DEPARTMENT OF ENERGY

Federal Energy Regulatory Commission

[Project No. 2536-084]

NewPage Wisconsin System, Inc., Northbrook Wisconsin, LLC; Notice of Application for Transfer of License, and Soliciting Comments, Motions To Intervene, and Protests

February 2, 2009.

On January 21, 2009, NewPage Wisconsin System, Inc. and Northbrook Wisconsin, LLC filed an application, for transfer of license of the Little Quinnesec Project, located on the Menominee River in Marinette County, Wisconsin.¹

¹ On October 1, 2008, licensee Stora Enso North America Corp., filed a notice (along with a related state-issued amendment of its articles of incorporation) that its corporate name had been formerly changed to NewPage Wisconsin System, Inc., without changing it as a legal entity.

Applicants seek Commission approval to transfer the license for the Little Quinnesec Project from NewPage Wisconsin System, Inc. to Northbrook Wisconsin, LLC.

Applicants Contact: Mr. John C. Ahlrichs, Northbrook Wisconsin, LLC, 20 North Walker, Suite 3121, Chicago Illinois, phone (312) 419-1771 and Mr. Douglas K. Cooper, Newpage Wisconsin System, Inc., 8540 Gander Creek Road, Miamisburg, OH 45342, phone (937) 242-9339

FERC Contact: Robert Bell, (202) 502-6062.

Deadline for filing comments, motions to intervene: 30 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-2536-084) in the docket number field to access the document. For assistance, call toll-free 1-866-208-3372.

Kimberly D. Bose,
Secretary.

[FR Doc. E9-2602 Filed 2-6-09; 8:45 am]

BILLING CODE 6717-01-P